DEPARTMENT OF TRANSPORTATION

Federal Aviation Administration

Notice of Industry Meeting

AGENCY: Federal Aviation Administration (FAA), DOT.

ACTION: Notice of public meeting.

SUMMARY: The Federal Aviation Administration (FAA) is hosting a public meeting to conclude the Aircraft Access to System Wide Information Management (AAtS) Demonstration project. The meeting will inform flight operations stakeholders and information service providers on the demonstrated concept, prototype applications developed, and results collected throughout the project. This meeting is not a precursor to a request for proposal (RFP) or request for offer (RFO). The FAA is not seeking or accepting unsolicited proposals.

DATES: The public meeting will be held on August 16, 2016, from 8:00 a.m. to 4:30 p.m.

ADDRESSES: The public meeting will be held at Florida NextGen Test Bed, 557 Innovation Way, Daytona Beach, FL 32114.

FOR FURTHER INFORMATION CONTACT: Kelly Mulholland, ANG-C52, Technology Development and Prototyping, Federal Aviation Administration, 800 Independence Ave. SW., Washington, DC 20591; telephone (202) 267-7970; email: 9-ANG-AAtS@faa.gov.

SUPPLEMENTARY INFORMATION:

Background

The FAA's System Wide Information Management (SWIM) program is one of the transformational programs of the NextGen portfolio. SWIM utilizes a Service Oriented Architecture (SOA) to exchange aviation data and services without the restrictive, time consuming and expensive process of developing unique interfaces for the numerous systems and equipment used by the National Airspace System (NAS).

On November 17, 2014, the FAA hosted a public meeting for the Aircraft Access to System Wide Information Management (AAtS) Phase 2 Working Group to discuss the operational needs for a capability such as AAtS. AAtS is a technology agnostic concept demonstration effort conducted by the FAA to improve collaborative decision making by establishing the airborne component of the ground based SWIM. AAtS leverages rapidly growing air/ground third party service providers' infrastructure and technologies such as inflight Internet Protocol (IP) Data Link and Electronic Flight Bags (EFB) to exchange non-command and control/safety critical information between pilots and other NAS users without new equipage mandates.

To demonstrate feasibility and highlight the future potential of connecting aircraft to SWIM, the FAA developed prototype systems and applications in collaboration with industry partners and conducted live operational demonstrations with airline and business aircraft operators. The concept demonstrated by AAtS will help create a shared NAS picture and is expected to contribute to increased predictability, flexibility, and efficiency through collaborative decision making. The FAA will summarize the demonstrations at the August 16, 2016, meeting to conclude the AAtS Demonstration project.

Registration

To attend the meeting, participants must register via email by close of business day Tuesday, August 9, 2016. In accordance with security procedures, participants must provide the following information to 9-ANG-AAtS@faa.gov: Full Name, Company, Phone Number, and U.S. Citizen (Y/N).

Issued in Washington, DC, on July 20, 2016.
John Maffei,
Director (A), NextGen Portfolio Management and Technology Development.

[FR Doc. 2016-18219 Filed 8-1-16; 8:45 am]

BILLING CODE 4910-13-P